DEPARTMENT OF TRANSPORTATION

Federal Aviation Administration

14 CFR Part 39

[Docket No. FAA-2014-0571; Directorate Identifier 2014-NM-059-AD; Amendment 39-18782; AD 2017-02-03]

RIN 2120-AA64

Airworthiness Directives; The Boeing Company Airplanes

AGENCY: Federal Aviation Administration (FAA), DOT.

ACTION: Final rule.

SUMMARY: We are adopting a new airworthiness directive (AD) for certain The Boeing Company Model 767-200, -300, and -400ER series airplanes. This AD was prompted by a report of a malfunction of the engine indication and crew alerting system (EICAS) during flight. This AD requires, for certain airplanes, a general visual inspection of the spray shield, and related investigative and corrective actions if necessary. We are issuing this AD to address the unsafe condition on these products.

DATES: This AD is effective March 16, 2017.

The Director of the Federal Register approved the incorporation by reference of a certain publication listed in this AD as of March 16, 2017.

ADDRESSES: For service information identified in this final rule, contact Boeing Commercial Airplanes, Attention: Data & Services Management, P.O. Box 3707, MC 2H-65, Seattle, WA 98124-2207; telephone 206-544-5000, extension 1; fax 206-766-5680; Internet https://www.myboeingfleet.com. You may view this referenced service information at the FAA, Transport Airplane Directorate, 1601 Lind Avenue SW., Renton, WA. For information on the availability of this material at the FAA, call 425-227-1221. It is also available on the Internet at http://www.regulations.gov by searching for and locating Docket No. FAA-2014-0571.

Examining the AD Docket

You may examine the AD docket on the Internet at http://www.regulations.gov by searching for and locating Docket No. FAA-2014-0571; or in person at the Docket Management Facility between 9 a.m. and 5 p.m., Monday through Friday, except Federal holidays. The AD docket contains this AD, the regulatory evaluation, any comments received, and other information. The address for the Docket Office (phone: 800-647-5527) is Docket Management Facility, U.S. Department of Transportation, Docket Operations, M-30, West Building Ground Floor, Room W12-140, 1200 New Jersey Avenue SE., Washington, DC 20590.

FOR FURTHER INFORMATION CONTACT: Stanley Chen, Aerospace Engineer, Cabin Safety and Environmental Systems Branch, ANM-150S, FAA, Seattle Aircraft Certification Office (ACO), 1601 Lind Avenue SW., Renton, WA 98057-3356; phone: 425-917-6585; fax: 425-917-6590; email: stanley.chen@faa.gov.

SUPPLEMENTARY INFORMATION:

Discussion

We issued a supplemental notice of proposed rulemaking (SNPRM) to amend 14 CFR part 39 by adding an AD that would apply to certain The Boeing Company Model 767-200, -300, and -400ER series airplanes. The SNPRM published in the Federal Register on April 13, 2016 (81 FR 21762) (“the SNPRM”). We preceded the SNPRM with a notice of proposed rulemaking (NPRM) that published in the Federal Register on August 14, 2014 (79 FR 47597) (“the NPRM”). The NPRM proposed to require an inspection for plastic couplings, corrective actions if necessary, and installation of new spray shrouds. The NPRM was prompted by a report of a malfunction of the engine indication and crew alerting system (EICAS) during flight. The SNPRM proposed, for certain airplanes, a general visual inspection of the spray shield and related investigative and corrective actions if necessary. We are issuing this AD to prevent an uncontrolled water leak from a defective potable water system coupling, which could cause the main equipment center (MEC) line replaceable units (LRUs) to become wet, resulting in an electrical short and potential loss of several functions essential for safe flight.

Comments

We gave the public the opportunity to participate in developing this AD. The following presents the comments received on the SNPRM and the FAA's response to each comment.

Request To Include Latest Service Information

Boeing requested that we revise the SNPRM to include the latest service information—Boeing Alert Service Bulletin 767-38A0073, Revision 3, dated September 8, 2016, which added 10 airplanes to the effectivity. The revised service information also added Part 5 of the Work Instructions to enhance the hose installation between location 6 and location 9 for an airplane on which a post-production configuration change had been made. Boeing noted that future revisions could be published as conditions dictate.

We partially agree with the request.

To require Revision 3 in this AD would necessitate issuing another supplemental NPRM to solicit comments on the merits of this change. We have determined that an unsafe condition exists, and delaying this action further would be inappropriate.

However, we have added new content to paragraph (i) of this AD to specify an additional method of compliance that was not part of the SNPRM. This additional method of compliance allows the use of Revision 3 for the coupling inspection and spray shroud installation specified in paragraph (g) of this AD.

This AD retains the applicability specified in paragraph (c) of the proposed AD (in the SNPRM). That is, this AD affects Model 767-200, -300, and -400ER series airplanes that are identified in Boeing Alert Service Bulletin 767-38A0073, Revision 2, dated August 10, 2015.

Likewise, this AD retains the specific compliance method specified in paragraphs (g) and (h) of the proposed AD (in the SNPRM). That is, the actions must be done in accordance with Boeing Alert Service Bulletin 767-38A0073, Revision 2, dated August 10, 2015. (See “Request to Revise Description of Affected Airplanes” for an explanation of the revision of paragraphs (g) and (h) of the proposed AD (in the SNPRM).)

For the 10 airplanes added in Boeing Alert Service Bulletin 767-38A0073, Revision 3, dated September 8, 2016, we might consider additional rulemaking to mandate the actions specified in this AD.

Request To Revise Description of Affected Airplanes

Boeing requested that we revise paragraphs (g) and (h) of the proposed AD (in the SNPRM) to remove the references to airplane groups. Boeing explained that this change would simplify the wording of the AD and avoid a potential mismatch between the AD and the service information if grouping is adjusted in the future. Boeing stated that the release of Boeing Alert Service Bulletin 767-38A0073, Revision 3, dated September 8, 2016, makes paragraph (g) of the proposed AD (in the SNPRM) incorrect because it does not account for newly added groups 14 and 15. Boeing also noted that future revisions could be published as conditions indicate.

We partially agree with the request. Paragraphs (g) and (h) of the proposed AD (in the SNPRM) have been revised to restructure the content into paragraph (g) in this AD and remove the references to specific airplane groups. As stated previously, we might consider future rulemaking to mandate the actions in this AD for the airplanes identified as Groups 14 and 15 in Boeing Alert Service Bulletin 767-38A0073, Revision 3, dated September 8, 2016.

Request for Clarification of Requirements

Boeing requested that we revise paragraph (h) of the proposed AD (in the SNPRM) (now paragraph (g)(2) in this AD) to change the phrase “applicable related investigative and corrective actions” to “applicable corrective actions.” Boeing indicated that this change would clarify the intent of the proposed AD because, as written, the proposed AD could be misinterpreted as requiring both the inspection for discrepant shields and the resulting corrective action before further flight.

We disagree to remove the phrase “related investigative [actions],” as requested. As explained in the SNPRM, related investigative actions are follow-on actions that (1) are related to the primary action, and (2) further investigate the nature of any condition found; related investigative actions in an AD could include, for example, inspections. Specifically, in this AD, the phrase “related investigative actions” includes testing and repairing potable water system leaks. We have not changed this final rule regarding this issue.

Request To Clarify Incorporation by Reference

Paragraph (k) of the proposed AD (in the SNPRM) stated that Boeing Alert Service Bulletin 767-38A0073, dated November 12, 2013; and Boeing Service Bulletin 767-38A0073, Revision 1, dated November 5, 2014; are not “incorporated by reference in this AD.” Boeing requested that we delete that statement because its intent is unclear and could be misinterpreted.

We agree that clarification is necessary. Paragraph (k) in the proposed AD (in the SNPRM) provides credit for compliance with the AD for work completed using earlier revisions of the service information that are not specifically mandated by the AD, while the latest revision of the service information would be mandated. Although Boeing Alert Service Bulletin 767-38A0073, dated November 12, 2013, and Boeing Service Bulletin 767-38A0073, Revision 1, dated November 5, 2014, will not be incorporated by reference in this AD, we agree to remove that statement from paragraph (k) of the AD.

Request To Revise Phrasing in “Credit for Previous Actions” Paragraph

Boeing requested that we revise paragraph (k) of the proposed AD (in the SNPRM) to account for additional revisions that may be necessary to identify in the AD, depending on the effective date of the AD. Boeing stated that the proposed AD (in the SNPRM) would exclude some groups from being given credit for accomplishment of the referenced service information. Boeing stated that if airlines have completed all actions in accordance with Boeing Alert Service Bulletin 767-38A0073, Revision 2, dated August 10, 2015, or Boeing Alert Service Bulletin 767-38A0073, Revision 3, dated September 8, 2016, no groups should be excluded.

We do not agree that it is necessary to revise the service information identified in paragraph (k) of this AD. As stated previously, Boeing Alert Service Bulletin 767-38A0073, Revision 3, dated September 8, 2016, is included in paragraph (i) of this AD to provide an additional method of compliance for the requirements of paragraph (g) of this AD. Additional credit for accomplishment of Revision 3 is therefore unnecessary. This AD will provide credit for only the accomplishment of Boeing Alert Service Bulletin 767-38A0073, dated November 12, 2013; and Boeing Service Bulletin 767-38A0073, Revision 1, dated November 5, 2014.

Effect of Winglets on Accomplishment of the Proposed Actions

Aviation Partners Boeing stated that the installation of winglets per supplemental type certificate (STC) ST01920SE does not affect the accomplishment of the manufacturer's service instructions.

We agree with the commenter that STC ST01920SE does not affect the accomplishment of the manufacturer's service instructions. Therefore, the installation of STC ST01920SE does not affect the ability to accomplish the actions required by this AD. We have not changed this AD in this regard.

Conclusion

We reviewed the relevant data, considered the comments received, and determined that air safety and the public interest require adopting this AD with the changes described previously and minor editorial changes. We have determined that these minor changes:

• Are consistent with the intent that was proposed in the SNPRM for correcting the unsafe condition; and

• Do not add any additional burden upon the public than was already proposed in the SNPRM.

We also determined that these changes will not increase the economic burden on any operator or increase the scope of this AD.

Related Service Information Under 1 CFR Part 51

We reviewed Boeing Alert Service Bulletin 767-38A0073, Revision 2, dated August 10, 2015; and Boeing Alert Service Bulletin 767-38A0073, Revision 3, dated September 8, 2016. The service information describes procedures for a general visual inspection for plastic potable water couplings, and applicable related investigative and corrective actions; installation of new spray shrouds; and a general visual inspection of the spray shield to determine if it has two slits and is installed correctly, and applicable related investigative and corrective actions. These documents are distinct since they are revisions of the same service information and have different airplane groupings for different configurations. This service information is reasonably available because the interested parties have access to it through their normal course of business or by the means identified in the ADDRESSES section.

Costs of Compliance

We estimate that this AD affects 136 airplanes of U.S. registry. We estimate the following costs to comply with this AD:

Estimated Costs
Action | Labor cost | Parts cost | Cost per product | Cost on U.S. operators
Part 1—inspection (Groups 1-3, 9, and 11, Configuration 1; Groups 4-8, 10, and 12-13) (136 airplanes) | Up to 3 work-hours × $85 per hour = $255 | $0 | Up to $255 | Up to $34,680.
Part 2—inspection (Group 9, Configuration 1; and Group 10) (32 airplanes) | 2 work-hours × $85 per hour = $170 | 0 | $170 | $5,440.
Part 3—installation of spray shrouds (136 airplanes) | 3 work-hours × $85 per hour = $255 | 330 | $585 | $79,560.
Part 4—inspection (Groups 1-3, 9, and 11, Configuration 2) (30 airplanes) | 2 work-hours × $85 per hour = $170 | 0 | $170 | $5,100.

We estimate the following costs to do any necessary on-condition actions that would be required based on the results of the inspection. We have no way of determining the number of aircraft that might need these actions:

On-Condition Costs
Action | Labor cost | Parts cost | Cost per product
Related investigative actions | 3 work-hours × $85 per hour = $255 | $0 | $255.
Corrective actions | Up to 1 work-hour × $85 per hour = $85 | 53 | Up to $138.

According to the manufacturer, some of the costs of this AD may be covered under warranty, thereby reducing the cost impact on affected individuals. We do not control warranty coverage for affected individuals. As a result, we have included all costs in our cost estimate.

Authority for This Rulemaking

Title 49 of the United States Code specifies the FAA's authority to issue rules on aviation safety. Subtitle I, section 106, describes the authority of the FAA Administrator. Subtitle VII: Aviation Programs, describes in more detail the scope of the Agency's authority.

We are issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

This AD will not have federalism implications under Executive Order 13132. This AD will not have a substantial direct effect on the States, on the relationship between the national government and the States, or on the distribution of power and responsibilities among the various levels of government.

For the reasons discussed above, I certify that this AD:

(1) Is not a “significant regulatory action” under Executive Order 12866,

(2) Is not a “significant rule” under DOT Regulatory Policies and Procedures (44 FR 11034, February 26, 1979),

(3) Will not affect intrastate aviation in Alaska, and

(4) Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2017-02-03 The Boeing Company: Amendment 39-18782; Docket No. FAA-2014-0571; Directorate Identifier 2014-NM-059-AD.

(a) Effective Date

This AD is effective March 16, 2017.

(b) Affected ADs

None.

(c) Applicability

This AD applies to The Boeing Company Model 767-200, -300, and -400ER series airplanes, certificated in any category, as identified in Boeing Alert Service Bulletin 767-38A0073, Revision 2, dated August 10, 2015.

(d) Subject

Air Transport Association (ATA) of America Code 38, Water/Waste.

(e) Unsafe Condition

This AD was prompted by a report of a malfunction of the engine indication and crew alerting system (EICAS) during flight. We are issuing this AD to prevent an uncontrolled water leak from a defective potable water system coupling, which could cause the main equipment center (MEC) line replaceable units (LRUs) to become wet, resulting in an electrical short and potential loss of several functions essential for safe flight.

(f) Compliance

Comply with this AD within the compliance times specified, unless already done.

(g) Inspection of Couplings and Installation of Spray Shrouds

For Groups and Configurations as identified in Boeing Alert Service Bulletin 767-38A0073, Revision 2, dated August 10, 2015, as applicable: At the applicable times identified in paragraph 1.E., “Compliance,” of Boeing Alert Service Bulletin 767-38A0073, Revision 2, dated August 10, 2015, except as required by paragraph (h) of this AD, do the actions specified in paragraphs (g)(1) and (g)(2) of this AD, as applicable.

(1) Do a general visual inspection for plastic potable water couplings; do all applicable related investigative and corrective actions; and install new spray shrouds, including a new hose assembly, as applicable; in accordance with the Accomplishment Instructions of Boeing Alert Service Bulletin 767-38A0073, Revision 2, dated August 10, 2015. Do all applicable related investigative and corrective actions within the applicable compliance time identified in paragraph 1.E., “Compliance,” of Boeing Alert Service Bulletin 767-38A0073, Revision 2, dated August 10, 2015, except as required by paragraph (h) of this AD.

(2) Within 72 months after the effective date of this AD, do a general visual inspection of the spray shield to determine if it has two slits and is installed correctly, and before further flight, do all applicable related investigative and corrective actions, in accordance with the Accomplishment Instructions of Boeing Alert Service Bulletin 767-38A0073, Revision 2, dated August 10, 2015.

Note 1 to paragraph (g) of this AD: Operators can take optional protective measures to cover or shield their equipment against water spray when performing the Potable Water System Leakage Test, as specified in Boeing Alert Service Bulletin 767-38A0073, Revision 2, dated August 10, 2015.

(h) Exception to the Service Information

Where paragraph 1.E., “Compliance,” of Boeing Alert Service Bulletin 767-38A0073, Revision 2, dated August 10, 2015, specifies a compliance time “after the original issue date of this service bulletin,” this AD requires compliance within the specified compliance time after the effective date of this AD.

(i) Additional Method of Compliance

Boeing Alert Service Bulletin 767-38A0073, Revision 3, dated September 8, 2016, is acceptable for compliance with the requirements of paragraph (g) of this AD, as applicable to the Groups and Configurations as identified in Boeing Alert Service Bulletin 767-38A0073, Revision 3, dated September 8, 2016.

(j) Parts Installation Prohibition

As of the effective date of this AD, no person may install any plastic potable water coupling having part number (P/N) CA620 series or P/N CA625 series on any airplane.

(k) Credit for Previous Actions

For airplanes in Groups 4 through 8, 10, 12, and 13, as identified in Boeing Alert Service Bulletin 767-38A0073, Revision 2, dated August 10, 2015: This paragraph provides credit for the actions specified in paragraph (g) of this AD, if those actions were performed before the effective date of this AD using Boeing Alert Service Bulletin 767-38A0073, dated November 12, 2013; or Boeing Service Bulletin 767-38A0073, Revision 1, dated November 5, 2014.

(l) Alternative Methods of Compliance (AMOCs)

(1) The Manager, Seattle Aircraft Certification Office (ACO), FAA, has the authority to approve AMOCs for this AD, if requested using the procedures found in 14 CFR 39.19. In accordance with 14 CFR 39.19, send your request to your principal inspector or local Flight Standards District Office, as appropriate. If sending information directly to the manager of the ACO, send it to the attention of the person identified in paragraph (m)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by the Boeing Commercial Airplanes Organization Designation Authorization (ODA) that has been authorized by the Manager, Seattle ACO, to make those findings. To be approved, the repair method, modification deviation, or alteration deviation must meet the certification basis of the airplane, and the approval must specifically refer to this AD.

(4) For service information that contains steps that are labeled as Required for Compliance (RC), the provisions of paragraphs (l)(4)(i) and (l)(4)(ii) of this AD apply.

(i) The steps labeled as RC, including substeps under an RC step and any figures identified in an RC step, must be done to comply with the AD. If a step or substep is labeled “RC Exempt,” then the RC requirement is removed from that step or substep. An AMOC is required for any deviations to RC steps, including substeps and identified figures.

(ii) Steps not labeled as RC may be deviated from using accepted methods in accordance with the operator's maintenance or inspection program without obtaining approval of an AMOC, provided the RC steps, including substeps and identified figures, can still be done as specified, and the airplane can be put back in an airworthy condition.

(m) Related Information

(1) For more information about this AD, contact Stanley Chen, Aerospace Engineer, Cabin Safety and Environmental Systems Branch, ANM-150S, FAA, Seattle Aircraft Certification Office (ACO), 1601 Lind Avenue SW., Renton, WA 98057-3356; phone: 425-917-6585; fax: 425-917-6590; email: stanley.chen@faa.gov.

(2) Service information identified in this AD that is not incorporated by reference is available at the addresses specified in paragraphs (n)(3) and (n)(4) of this AD.

(n) Material Incorporated by Reference

(1) The Director of the Federal Register approved the incorporation by reference (IBR) of the service information listed in this paragraph under 5 U.S.C. 552(a) and 1 CFR part 51.

(2) You must use this service information as applicable to do the actions required by this AD, unless the AD specifies otherwise.

(i) Boeing Alert Service Bulletin 767-38A0073, Revision 2, dated August 10, 2015.

(ii) Boeing Alert Service Bulletin 767-38A0073, Revision 3, dated September 8, 2016.

(3) For Boeing service information identified in this AD, contact Boeing Commercial Airplanes, Attention: Data & Services Management, P.O. Box 3707, MC 2H-65, Seattle, WA 98124-2207; telephone 206-544-5000, extension 1; fax 206-766-5680; Internet https://www.myboeingfleet.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to http://www.archives.gov/federal-register/cfr/ibr-locations.html.

Issued in Renton, Washington, on January 11, 2017.
Michael Kaszycki,
Acting Manager, Transport Airplane Directorate, Aircraft Certification Service.

[FR Doc. 2017-01338 Filed 2-13-17; 8:45 am]

BILLING CODE 4910-13-P